DEPARTMENT OF ENERGY

Federal Energy Regulatory Commission

[Docket No. EG02-110-000, et al.]

Triton Power Michigan LLC, et al.; Electric Rate and Corporate Regulation Filings

May 2, 2002.

The following filings have been made with the Commission. The filings are listed in ascending order within each docket classification.

1. Triton Power Michigan LLC

[Docket No. EG02-110-000]

Take notice that on April 22, 2002, Triton Power Michigan LLC (TP Michigan), with its principal place of business at c/o Jackson Power Facility, 2219 Chapin Street, Jackson, Michigan 49203, filed with the Federal Energy Regulatory Commission (Commission) a supplement to its application for a determination of exempt wholesale generator (EWG) status pursuant to Part 365 of the Commission's regulations (18 CFR 365).

TP Michigan, a Delaware special purpose limited liability company, states that it will be engaged directly and exclusively in the business of owning or operating, or both owning and operating, a 535 MW gas-fired combined cycle power generation facility located in Jackson Michigan (Facility). In its supplement to the application, TP Michigan clarifies the lease arrangement between TP Michigan and the owner of the equipment, AlphaGen Power LLC, to clearly state that TP Michigan will have care, custody, and control over the Facility and that AlphaGen will act as a passive owner.

Comment Date: May 23, 2002.

2. Southern Company Services, Inc.

[Docket No. ER02-851-004]

Take notice that on April 26, 2002, Southern Company Services, Inc., acting on behalf of Alabama Power Company, Georgia Power Company, Gulf Power Company, Mississippi Power Company, and Savannah Electric and Power Company (collectively referred to as Southern Companies), made a filing in compliance to the following order of the Federal Energy Regulatory Commission: Southern Company Services, Inc., 98 FERC ¶ 61,328 (2002) (Order). In the Order, the Commission accepted and suspended Tariff sheets, subject to refund, regarding an amendment to the Open Access Transmission Tariff of Southern Companies (FERC Electric Tariff, Fourth Revised Volume No. 5) (Tariff). The primary purpose of the amendment was to revise Southern Companies' rate for the use of its bulk transmission facilities (those rated above 44/46 kV) to adopt a formula rate. In the Order, the Commission, among other things, required Southern Companies to file the revenue comparison cost-of-service statements contained in the Commission's filing regulations. In Southern Companies' compliance filing, they tendered those statements to the Commission.

Comment Date: May 17, 2002.

3. Florida Power & Light Company

[Docket No. ER02-854-002]

Take notice that on April 26, 2002, Florida Power & Light Company (FPL) filed, pursuant to the order issued on March 27, 2002 in the above-captioned proceeding, a compliance filing making the required changes to the executed Interconnection and Operation Agreement between FPL and Blue Heron Energy Center, LLC.

Comment Date: May 17, 2002.

4. AES Alamitos, L.L.C.; AES Huntington Beach, L.L.C.; and AES Redondo Beach, L.L.C.

[Docket Nos. ER98-2185-000, ER98-2184-000, and ER98-2186-000]

Take notice that, pursuant to Section 205 of the Federal Power Act, and the Federal Energy Regulatory Commission's (Commission) Orders in the referenced dockets, on April 19, 2002, AES Alamitos, L.L.C., AES Huntington Beach, L.L.C., and AES Redondo Beach, L.L.C., filed Amendment No. 2 dated as of March 5, 2002, to the Capacity Sale and Tolling Agreement dated as of May 1, 1998 (Tolling Agreement), and filed executed Corporate Guarantees to replace Schedules 19.1 and 19.2 of the Tolling Agreement.

Comment Date: May 21, 2002.

5. Wolverine Power Supply Cooperative, Inc.

[Docket No. ES02-30-000]

Take notice that on April 26, 2002, Wolverine Power Supply Cooperative, Inc. (Wolverine) submitted an application pursuant to section 204 of the Federal Power Act seeking authorization to assume long-term debt in an amount not to exceed $35,775,000, under two loan agreements with the National Rural Cooperative Finance Corporation in the amounts of $31,300,000 and $4,475,000, respectively.

Wolverine also requests waiver of the competitive bidding and negotiated placement requirements at 18 CFR 34.2.

Comment Date: May 20, 2002.

Standard Paragraph

E. Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-11538 Filed 5-8-02; 8:45 am]

BILLING CODE 6717-01-P